GENERAL SERVICES ADMINISTRATION

41 CFR Appendix C to Chapter 301 and Parts 304-2, 304-3, and 304-6

[FTR Case 2016-301; Docket No. 2016-0008, Sequence 1]

RIN 3090-AJ69

Federal Travel Regulation (FTR); Clarification of Payment in Kind for Speakers at Meetings and Similar Functions; Withdrawal

AGENCY: Office of Government-wide Policy, U.S. General Services Administration (GSA).

ACTION: Proposed rule; withdrawal.

SUMMARY: The General Services Administration (GSA) is withdrawing FTR Case 2016-301; Clarification of Payment in Kind for Speakers at Meetings and Similar Functions. This proposed rule is being withdrawn so that GSA can develop a comprehensive revision to the Federal Travel Regulation.

DATES: The proposed rule published on August 15, 2016 (81 FR 53979) is withdrawn as of October 13, 2017.

ADDRESSES: Regulatory Secretariat Division (MVCB), 1800 F Street NW., Washington, DC 20405, 202-501-4755.

FOR FURTHER INFORMATION CONTACT: For clarification of content, contact Ms. Jill Denning, Program Analyst, Office of Government-wide Policy, at 202-208-7642. Contact the Regulatory Secretariat Division (MVCB), 1800 F Street NW., Washington, DC 20405, 202-501-4755, for information pertaining to status or publication schedules. Please cite FTR case 2016-301.

SUPPLEMENTARY INFORMATION:

List of Subjects in 41 CFR Appendix C to Chapter 301 and Parts 304-2, 304-3, and 304-6

Government employees, Travel and transportation expenses.

Authority: 5 U.S.C. 5707, and 5 U.S.C. 5707; 31 U.S.C. 1353.

Dated: October 5, 2017.
Allison Fahrenkopf Brigati,
Associate Administrator, Office of Government-wide Policy.

[FR Doc. 2017-22016 Filed 10-12-17; 8:45 am]

BILLING CODE 6820-14-P